DEPARTMENT OF ENERGY

Federal Energy Regulatory Commission

[Docket Nos. ER00-2964-000 and ER00-2964-003]

West Georgia Generating Company L.P.; Notice of Filing

October 25, 2000.

Take notice that on October 18, 2000, West Georgia Generating Company (West Georgia), an Exempt Wholesale Generator that owns and operates a 640 MW electric generation plant in Thomastown, Georgia, tendered for filing a Power Purchase Agreement between West Georgia Generating Company L.P. and Oglethorpe Power Corporation (the Agreement). The purpose of the filing was to provide corrected designations under Order No. 614, FERC Stats. and Regs. ¶31,096 (2000), as required by the letter order issued in these dockets on September 21, 2000.

West Georgia requests that the Agreement be permitted to become effective June 6, 2000.

Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions and protests should be filed on or November 8, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Beginning November 1, 2000, comments and protests may be filed electronically via the internet in lieu of paper. See, 18 CFR 385.2001(a)(1)(iii) and the instructions on the Commission's web site at ­ http://www.ferc.fed.us/efi/doorbell.htm.

David P. Boergers,
Secretary.

[FR Doc. 00-27779 Filed 10-27-00; 8:45 am]

BILLING CODE 6717-01-M